FARM CREDIT ADMINISTRATION.

12 CFR Part 620

RIN 3052-AC37

Disclosure to Shareholders; Annual Report to Shareholders; Effective Date

AGENCY: Farm Credit Administration.

ACTION: Notice of effective date.

SUMMARY: The Farm Credit Administration (FCA) published a final rule under part 620 on December 4, 2007 (72 FR 68060). This final rule amends our regulations to allow Farm Credit System institutions 90 calendar days to prepare and distribute annual reports to shareholders while retaining the 75 calendar day requirement for electronic reporting and distribution to the FCA. In accordance with 12 U.S.C. 2252, the effective date of the final rule is 30 days from the date of publication in the Federal Register during which either or both Houses of Congress are in session. Based on the records of the sessions of Congress, the effective date of the regulations is February 6, 2008.

DATES: Effective Date: The regulation amending 12 CFR part 620 published on December 4, 2007 (72 FR 68060) is effective February 6, 2008.

FOR FURTHER INFORMATION CONTACT: Christopher D. Wilson, Policy Analyst, Office of Regulatory Policy, Farm Credit Administration, McLean, VA 22102-5090, (703) 883-4414, TTY (703) 883-4434; or Bob Taylor, Attorney Advisor, Office of General Counsel, Farm Credit Administration, McLean, VA 22102-5090, (703) 883-4020, TTY (703) 883-4020.

(12 U.S.C. 2252(a)(9) and (10))

Dated: February 6, 2008.
Roland E. Smith,
Secretary, Farm Credit Administration Board.

[FR Doc. 08-607 Filed 2-11-08; 8:45 am]

BILLING CODE 6705-01-M